DEPARTMENT OF TRANSPORTATION

Federal Aviation Administration

[FAA Docket Number FAA-2023-0306]

NextGen Advisory Committee; Notice of Public Meeting

AGENCY: Federal Aviation Administration (FAA), Department of Transportation.

ACTION: Notice of public meeting.

SUMMARY: This notice announces a meeting of the NextGen Advisory Committee (NAC).

DATES: The meeting will be held, on February 28, 2023, from 9:00 a.m.-2:00 p.m. ET. Request to attend the meeting virtually must be received by February 17, 2023. Request for accommodations for a disability must be received by February 17, 2023. If you wish to make a public statement during the meeting, you must submit a written copy of your remarks by February 17, 2023. Written materials requested to be reviewed by NAC Members before the meeting must be received no later than February 17, 2023.

ADDRESSES: The meeting will be held at the Federal Aviation Administration, 800 Independence Avenue SW, Washington, DC 20591 with a virtual option. Virtual meeting information will be provided upon request at the time of registration. Information on the NAC, including copies of previous meeting minutes, is available on the NAC internet website at https://www.faa.gov/about/office_org/headquarters_offices/ang/nac/. Members of the public who wish to observe this meeting must send the required information listed in the SUPPLEMENTAL INFORMATION section to 9-AWA-ANG-NACRegistration@faa.gov.

FOR FURTHER INFORMATION CONTACT: Kimberly Noonan, NAC Coordinator, U.S. Department of Transportation, at Kimberly.Noonan@faa.gov or 202-267-3760. Any requests or questions not regarding attendance registration should be sent to the person listed in this section.

SUPPLEMENTARY INFORMATION:

I. Background

The Secretary of Transportation established the NAC under agency authority in accordance with the provisions of the Federal Advisory Committee Act (FACA), as amended, Public Law 92-463, 5 U.S.C. App. 2, to provide independent advice and recommendations to the FAA and to respond to specific taskings received directly from the FAA. The NAC recommends consensus-driven advice for FAA consideration relating to Air Traffic Management System modernization.

II. Agenda

At the meeting, the agenda will cover the following topics:

• NAC Chair's Report

• FAA Report

• NAC Subcommittee Chair's Report

○ Risk and Mitigations update for the following focus areas: Data Communications, Performance Based Navigation, Surface and Data Sharing, and Northeast Corridor

• NAC Chair Closing Comments

The detailed agenda will be posted on the NAC internet website at least one week in advance of the meeting.

III. Public Participation

The meeting is open to the public. Members of the public who wish to attend are asked to register via email by submitting their full legal name, country of citizenship, contact information (telephone number and email address), and name of your industry association, or applicable affiliation, and if they would like to attend the meeting in-person or virtually. Please email this information to the email address listed in the ADDRESSES section. For foreign national in-person attendees, please also provide your company/organization country. When registration is confirmed, registrants who requested to attend virtually will be provided the virtual meeting information/teleconference call-in number and passcode. Callers are responsible for paying associated long-distance charges (if any).

Note: Only NAC Members, members of the public who have registered to make a public statement, and NAC working groups and FAA staff who are providing briefings will have the ability to speak. All other attendees will be able to listen-only.

The U.S. Department of Transportation is committed to providing equal access to this meeting for all participants. If you need alternative formats or services because of a disability, please contact the person listed in the FOR FURTHER INFORMATION CONTACT section.

Five minutes will be allotted for oral comments from members of the public joining the meeting. This time may be extended if there is a significant number of members of the public wishing to provide an oral comment. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA may conduct a lottery to determine the speakers. Speakers are required to submit a copy of their prepared remarks for inclusion in the meeting records and for circulation to NAC members to the person listed under the heading FOR FURTHER INFORMATION CONTACT. All prepared remarks submitted on time will be accepted and considered as part of the meeting's record.

Members of the public may submit written statements for inclusion in the meeting records and circulation to the NAC members. Written statements need to be submitted to the person listed under the heading FOR FURTHER INFORMATION CONTACT. Comments received after the due date listed in the DATES section will be distributed to the members but may not be reviewed prior to the meeting. Any member of the public may present a written statement to the committee at any time.

Signed in Washington, DC.
Kimberly Noonan,
Manager, Stakeholder and Collaboration Division (A), Management Services Office, ANG-A, Office of the Assistant Administrator for NextGen, Federal Aviation Administration.

[FR Doc. 2023-02636 Filed 2-7-23; 8:45 am]

BILLING CODE 4910-13-P